DEPARTMENT OF ENERGY

Federal Energy Regulatory Commission

[Docket No. RP03-71-000]

Overthrust Pipeline Company; Notice of Tariff Filing

November 29, 2002.

Take notice that on November 13, 2002, Overthrust Pipeline Company (Overthrust) tendered for filing as part of its FERC Gas Tariff, Original Volume No. 1 and First Revised Volume No. 1-A, the following tariff sheets, to be effective December 13, 2002:

Original Volume No. 1

Seventh Revised Sheet No. 3

First Revised Volume No. 1-A

Fifth Revised Sheet No. 2

Effective November 1, 2001, Questar Pipeline Company (Questar Pipeline) purchased NGPL-Overthrust Inc.'s (NGPL) 18 percent ownership interest in Overthrust and effective July 1, 2002, Questar Overthrust Pipeline Company (Questar Overthrust) purchased CIG Overthrust, Inc.'s (CIG) 10 percent ownership interest in Overthrust. The purchase of NGPL's interest by Questar Pipeline and the purchase of CIG's interest by Questar Overthrust, results in Questar Corporation affiliates owning 100 percent of the general partnership. Revised Sheet No. 3 to Original Volume No. 1 and revised Sheet No. 2 to First Revised Volume No. 1-A reflects a revised Preliminary Statement.

Overthrust states that a copy of this filing has been served upon its customers, the Public Service Commission of Utah and the Public Service Commission of Wyoming.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-30833 Filed 12-5-02; 8:45 am]

BILLING CODE 6717-01-P